FEDERAL COMMUNICATIONS COMMISSION

47 CFR Part 25

[IB Docket No. 18-314; FCC 20-159; FRS 17350]

Further Streamlining FCC Rules Governing Satellite Services

AGENCY: Federal Communications Commission.

ACTION: Final rule.

SUMMARY: In this document, the Federal Communications Commission (Commission or we) streamlines its rules governing satellite services by creating an optional framework for the authorization of blanket-licensed earth stations and space stations in a satellite system through a unified license. The Commission also aligns the build-out requirements for earth stations and space stations and eliminates unnecessary reporting rules.

DATES: Effective March 31, 2021, except instruction 6 adding 47 CFR 25.136(h) which is delayed. The Commission will publish a document in the Federal Register announcing the effective date of 47 CFR 25.136(h).

FOR FURTHER INFORMATION CONTACT: Clay DeCell, Clay.DeCell@fcc.gov, 202-418-0803, or if concerning the information collections in this document, Cathy Williams, Cathy.Williams@fcc.gov, 202-418-2918.

SUPPLEMENTARY INFORMATION: This is a summary of the Commission's Report and Order, FCC 20-159, adopted November 18, 2020, and released November 19, 2020. The full text of the Report and Order is available at https://docs.fcc.gov/public/attachments/FCC-20-159A1.pdf. To request materials in accessible formats for people with disabilities, send an email to FCC504@fcc.gov or call the Consumer & Governmental Affairs Bureau at 202-418-0530 (voice), 202-418-0432 (TTY).

Congressional Review Act

The Commission has determined, and the Administrator of the Office of Information and Regulatory Affairs, Office of Management and Budget, concurs that this rule is “non-major” under the Congressional Review Act, 5 U.S.C. 804(2). The Commission will send a copy of this Second Report and Order to Congress and the Government Accountability Office pursuant to 5 U.S.C. 801(a)(1)(A).

Synopsis

In this Report and Order, the Commission streamlines its rules governing satellite services by creating an optional framework for authorizing both the blanket-licensed earth stations and space stations of a satellite system through a unified license. We also align the build-out requirements for earth stations and space stations and eliminate unnecessary reporting rules. These changes will reduce regulatory burdens, simplify the Commission's licensing of satellite systems, and provide additional operational flexibility.

A. Unified License for Space Station and Blanket-Licensed Earth Station Operations

On January 31, 2019, the Commission proposed at 84 FR 638 a simple framework for an optional unified license. The unified license would authorize operations of the satellite network, i.e., the space station and the earth stations operating with that space station. The unified license would be held by the satellite operator. To receive a unified license, the satellite operator would have to file an application with the normally required space station application information, plus certain certifications and information regarding earth station operations. It would not have to provide a Form 312 Schedule B or the detailed earth station information that would otherwise be required, but which is rendered duplicative or unnecessary by what was already submitted for the space station. Accordingly, the unified license would offer a more efficient means to authorize the earth stations in a satellite network, and one that better reflects the flexibility satellite operators exercise over the parameters of their satellite networks.

Scope. After review of the information submitted in the record, we conclude that the streamlining benefits of a unified authorization could apply to a variety of satellite and earth station licensees, and that we need not limit its application initially to certain regulatory frameworks. Accordingly, we will broadly make available a unified licensing option to all types of satellite and blanket-licensed earth station operations in the frequency bands listed below, including Earth Station in Motion (ESIM) operations in these bands. We will also permit non-U.S.-licensed satellite operators to receive a single grant with U.S. market access and blanket-licensed earth station operating authority. As proposed, the unified license will be held by the satellite operator, including authority for the blanket-licensed earth stations. We make the unified licensing framework available to operators in the following frequency bands:

Non-Voice, Non-Geostationary Mobile-Satellite Service (MSS): 137-138 MHz, 148-150.05 MHz, 399.9-400.05 MHz, and 400.15-401 MHz;

1.5/1.6 GHz MSS: 1525-1559 MHz and 1626.5-1660.5 MHz;

1.6/2.4 GHz MSS: 1610-1626.5 MHz and 2483.5-2500 MHz;

2 GHz MSS: 2000-2020 MHz and 2180-2200 MHz;

GSO FSS: 10.7-12.2 GHz, 14-14.5 GHz, 18.3-18.8 GHz, 19.7-20.2 GHz, 28.35-28.6 GHz, 29.25-30 GHz, 40-42 GHz, and 48.2-50.2 GHz;

NGSO FSS: 10.7-12.7 GHz, 14-14.5 GHz, 17.8-18.6 GHz, 18.8-19.4 GHz, 19.6-20.2 GHz, 28.35-29.1 GHz, 29.5-30 GHz, 40-42 GHz, and 48.2-50.2 GHz; and

GSO and NGSO MSS: 19.7-20.2 GHz and 29.5-30 GHz.

As stated in the proposed rule, we will exclude from unified licensing any fixed-satellite service (FSS) operations under 10 GHz in light of ongoing Commission rulemakings and the unique, transitional status of some FSS operations in these bands. In addition, we will allow only blanket-licensed earth station operations to be included in a unified license. Thus, unified licensing will not be available in any frequency band shared with UMFUS. But in bands adjacent to UMFUS operations, FSS operations are authorized on a blanket-licensed basis today without any coordination with UMFUS. We reject any suggestion to revisit blanket FSS licensing in such bands. Similarly, we find no basis in the record to exclude from eligibility ESIM operations in the 28.35-28.6 GHz band adjacent to the 27.5-28.35 GHz band shared with UMFUS. The issue of out-of-band emissions from ESIMs operating in the 28.35-28.6 GHz band is currently being explored in a separate rulemaking and is not affected by the licensing posture of an ESIM in a separate earth station authorization or a unified license. In either case, ESIMs will have to comply with any revised out-of-band emissions requirement adopted in that rulemaking.

We similarly do not believe that we should increase burdens on blanket-licensed earth station deployment pursued through a unified license, as opposed to through existing blanket-licensing options, by requiring registration or notification of the ubiquitously deployed stations. Any such information-gathering for blanket-licensed earth station operations, if appropriate, would be more efficiently pursued with regard to specific rulemakings and frequency bands. Regarding the information omitted from a unified license application because it is duplicative or unnecessary, we note that the application will constitute a complete proposal for the satellite system, including the blanket-licensed earth station operations. If, after review of the complete application, a party has outstanding technical concerns, it may address them during the comment period.

In addition, we do not believe that the earth station technical showings currently required by 47 CFR 25.115(g)(1) and 25.132 are necessary for terrestrial operators to review and should not be replaced with a certification requirement. These showings are intended to confirm compliance with two-degree spacing limits for GSO FSS satellites. Given that satellite operators are currently allowed to certify compliance with two-degree spacing limits instead of providing technical showings, and the experience of satellite commenters that such technical demonstrations are unnecessary to confirm the earth station's compliance with two-degree limits, we do not believe that the burden of providing these demonstrations is justified by their purpose. In any event, adjacent-band terrestrial operators will have an opportunity to comment on any unified license application including ESIM or other blanket-licensed earth station authority, and they may request additional information regarding the earth station operations. If an UMFUS operator experienced interference due to adjacent-band operations of a unified licensee, it could address its concerns to the licensee directly or to the Commission.

The unified license will not be a separate license that a satellite operator has to obtain in addition to its existing satellite license. Rather, it will constitute a space station license that also includes authority for the operation of earth stations with that particular geostationary-satellite orbit (GSO) space station or those (non-geostationary satellite orbit) NGSO space stations. Whether a satellite operator chooses to include such earth station authority or not, the space station authority will remain as it is today. The earth station authorization may include some or all of the frequency bands authorized for the associated space station(s).

In response to a request for clarification, we affirm that requests for modification or renewal, special temporary authority, and application amendments related to space station operations, earth station operations, or both, can be made in the narrative portion of an application in the unified license file. While a unified license contains authority for both space station and earth station operations, we consider such a license to be an extension of the satellite licensing process, to be held by the satellite operator and applied for in the International Bureau Filing System (IBFS) using the general satellite licensing procedures. Accordingly, for any renewal applications, we will apply the deadlines and procedures for renewal of the space station authority to the entire unified license, and not consider any potentially conflicting requirements for renewal of the earth station authority. In addition, since there are no Commission licenses for multiple GSO-satellite systems, if a GSO satellite under a unified license became inoperable at the assigned orbital location (e.g., due to an in-orbit failure or end-of-life deorbiting), the unified license would cease, including all earth station authority to communicate with that satellite. The earth stations that formerly operated with that retired satellite could operate under a separate unified license authorizing communication with a replacement satellite, under a unified license for a non-replacement satellite, or under a separate earth station license. Only the earth stations' authority to operate with the retired satellite would cease. For an NGSO system license, which is typically a type of blanket license for space stations, the loss of a single space station would not usually terminate the license.

We also direct the International Bureau to consider and release, as appropriate, further guidance regarding the implementation of a unified licensing framework in an explanatory public notice consistent with the intent of this rulemaking to simplify and streamline, to the maximum extent practicable, the authorization of space stations and earth stations through a unified license. We decline to postpone the effectiveness of the unified license framework until after an explanatory public notice is released as we expect that the practical experience the International Bureau would gain in implementing the new framework will prove valuable and important in developing further guidance.

Non-U.S.-Licensed Satellites. We will allow non-U.S.-licensed satellite operators to obtain market access through a unified authorization. Structurally, the unified authorization will consist of an earth station license and a grant of market access for the space station. This same formal licensing structure is possible today when a satellite operator files its own earth station license application and seeks satellite market access through the earth station application. In contrast with this current option, the unified authorization may only be held by a satellite operator, will exclude individually coordinated earth stations, and will be processed in IBFS using the filing options and procedures available to space station applications rather than earth station applications.

Blanket-Licensed Earth Stations. Including blanket-licensed earth stations within a unified license would streamline the authorization of these earth stations without raising potential site-specific concerns, because the Commission has already determined that such earth stations may be deployed ubiquitously, without other operators knowing their precise locations. The unified license will merely capture this existing authority in a different type of license, without allowing any earth station operations that would be prohibited under the existing method of a blanket earth station license. Therefore, no other services will be affected by permitting such operations under a blanket license. Accordingly, we will allow any type of earth station operation eligible for blanket licensing to be included in a unified license.

Individually Coordinated Earth Stations. Although the Commission proposed to include in the unified license conditional authority for earth stations that must be individually coordinated and are not eligible for blanket licensing, we decline to adopt this proposal. For one, we find that many of the benefits of such a proposal (such as linking the deployment of those earth stations to the deployment of the associated satellite, and thereby allowing the satellite operator to secure its gateway earth station locations several years earlier than the current licensing process) are better addressed more directly (for example, by modifying earth station build out requirements). For another, we find that adding such earth stations to a unified license would create more complexity than its streamlining benefit. Whether included in a unified license or not, a separate earth station filing would be required to provide the necessary site-specific information. Further, under the earth station certification proposal we adopt below, an earth station license applicant could similarly take advantage of the information provided in a corresponding space station application to omit any data that is duplicative. Therefore, it could be that the filings for individually coordinated earth stations—whether as part of a unified license or separately licensed using the certification procedure—would be similar in terms of the information provided, if not identical. At the same time, creating a new category of earth station filings would impose burdens on Commission resources. Therefore, in light of the possible complication that separate earth station filings would bring to a unified license framework, and the potentially marginal reduction in application burdens, we decline to adopt the proposal for individually coordinated earth stations.

In short, unified licensing will not be available in any frequency bands in which blanket earth station licensing is not permitted. In such bands, earth stations will continue to be licensed separately from space stations.

Application Requirements. To add blanket-licensed earth station authority to a space station license or market access grant, the satellite operator would need to provide only the additional information required in an equivalent earth station application, but which is not already covered by what was filed for the space station. This includes, for example, any certification under 47 CFR 25.115(i) that the use of a contention protocol in an earth station network will be reasonable, because that certification is not covered by the information provided in a space station license application. Submission of an earth station Form 312 Schedule B would not be required. As stated in the proposed rule, in applications where the satellite operator certified compliance with the two-degree spacing power limits under 47 CFR 25.140(a)(3)(i)-(iv), for example, the applicant would not need to provide any additional information on earth station antenna performance or verified performance currently required by 47 CFR 25.115(g)(1) or 25.132 because the certification already attests to compliance with the power limits involved in those additional showings. Further instances of redundancy will necessarily be reviewed by Commission staff on a case-by-case basis initially, given that, at the urging of commenters, we are making the unified license option widely available across several different services and types of operation, each with distinct earth station and space station information requirements. The goal of this review will be to streamline, as far as possible within current rules, the earth station information required. We also note that a unified license may be granted in the absence of default power limits, based on the technical showings provided, and that nothing about the unified license would change the application of section 25.140(d) to space stations authorized in, or outside of, a unified license.

Control of Earth Stations. Terrestrial operators may address questions or concerns to the satellite operator directly, as holder of the unified license, or to the Commission. Today, many satellite licensees are already held responsible for compliance with earth station power limits for their satellite networks. Further, it is common practice in satellite service contracts for the satellite operator to specify and require third party earth station operators to adhere to technical parameters consistent with its license, coordination agreements and the efficient technical use of its network. We continue to believe that contractual provisions are sufficient to hold the unified licensee as the responsible entity. Therefore, we do not find any basis in the record to modify our rules regarding the control of earth stations.

Fees. As an initial matter, we note that there is an ongoing, comprehensive Commission rulemaking involving updates and additions to the application fee schedules. The interim fee decisions taken in this Report and Order will be considered in the larger application fee rulemaking, and may change significantly based on the analyses conducted there. In adopting a unified license framework, however, we must determine an initial treatment with respect to our application-fee requirements.

A unified license application will contain all the information necessary to assess the proposed operation of the space station(s) and blanket-licensed earth stations in the satellite system, consistent with our rules. Commission staff will review both the space and ground components of the satellite system, and commenters may raise issues regarding either component to be resolved in the licensing decision. Because we anticipate that processing a unified license application will involve similar Commission resources to the processing of individual space station applications and earth station applications making use of the new certification option we adopt below, we will assess a fee for unified license applications that is equal to the combined fees of the relevant space station license application and earth station blanket-license application. This treatment is intended to provide a simple, clear solution until the comprehensive Commission application fee rulemaking is completed. Because there are currently no fee codes in IBFS for such combined fees, unified license applicants will need to pay the application fee manually.

In the case of a non-U.S.-licensed space station operator seeking a U.S. earth station license in combination with its petition for market access, we will—for now—assess the earth station application fee schedule to such requests. This provides equal treatment with the similar, existing procedure of market access through an earth station application. However, we note the inconsistency and potential unfairness of assessing substantially lower fees to such market access requests than to U.S. licensees, and intend to fully consider this and all application fee matters in the rulemaking dedicated to revising the Commission's application fees broadly.

In addition to application fees, the Commission also charges annual regulatory fees. These fees are based on licenses held at the end of the relevant fiscal year. The Commission recently concluded its fiscal year 2019 regulatory fee rulemaking, and sought comment on additional changes for future years. We note that the fiscal year 2019 report and order for the first time assessed the same regulatory fees against non-U.S.-licensed satellite operators granted U.S. market access as the Commission assesses to satellite operators holding a Commission space station license. We defer to a future regulatory fee proceeding the question of how to assess such fees to the new category of unified licenses.

B. Earth Station Certifications

As an alternative or addition to the unified license proposal in the proposed rule, the Commission also asked whether it should permit applicants for GSO FSS earth station licenses to submit certifications of compliance with the terms and conditions of the communicating space station network as a substitute for filing the technical information required by Form 312, Schedule B. Such certifications would allow independent earth station operators to benefit from streamlined information requirements in a similar way as earth stations authorized through a unified license held by the satellite operator, while remaining responsible for compliance with its certification.

We believe that there is no general need for GSO FSS earth station applicants to submit technical information that is duplicative (or unnecessary) due to the information already provided for the satellite with which they will communicate. Furthermore, and consistent with our decision above to expand the streamlining benefits of the unified license to additional services and types of operation, we see no general need to require such duplicative or unnecessary information for any earth station in any service when an appropriate certification of compliance with the satellite authorization is made.

With respect to the frequency bands to which this option will apply, we take an approach consistent with our decisions above regarding the unified license framework. Consistent treatment is appropriate because the same types of duplicative or unnecessary information may be omitted either through an earth station certification of compliance with the relevant satellite authorization or through a unified license application. Accordingly, we will exclude from the earth station certification option FSS operations under 10 GHz and operations subject to 47 CFR 25.136. We will include ESIM operations in the 28.35-28.6 GHz band because doing so will have no impact on the applicable out-of-band emissions limits that affect UMFUS operations in the adjacent 27.5-28.35 GHz band.

Therefore, to conserve applicant and Commission resources while ensuring the necessary information remains on file with the Commission, we conclude it will serve the public interest to adopt a general provision for earth station licensing that an earth station applicant certifying that it will comply with the applicable terms and conditions of any space station's authorization with which it communicates need not provide technical demonstrations or other information made duplicative or unnecessary by the certification, with the exceptions just noted. This necessarily applies to many frequency bands because the requirement to submit technical data in Schedule B, specifically identified as a source of potentially unnecessary information in the proposed rule, is applicable by default to all applications for transmitting earth stations.

Applicants taking advantage of the certification option need not identify the information that is duplicative or unnecessary at this time. Given that we are excluding FSS bands below 10 GHz and bands shared with UMFUS, and that the vast majority of earth station applications are non-controversial and unopposed, such a requirement would lessen the streamlining benefits of the certification option without providing a compensating benefit. As under the unified license approach above, parties may raise questions on specific applications during the comment period. Finally, we believe that guidance the International Bureau may provide on the new earth station certifications, like on the unified license applications, would benefit from practical experience implementing the rules. We therefore decline to delay the effectiveness of the new rule.

C. Earth Station Build-Out Requirements

In the proposed rule, the Commission identified a regulatory disconnect between the five-year deployment requirement for a GSO space station authorized in frequency bands subject to 47 CFR 25.136 and the one-year deployment requirement for earth stations communicating with such a satellite. The Commission proposed to align these build-out requirements. As proposed, an earth station authorized through 47 CFR 25.136 would have a build-out term defined as either the date the associated satellite becomes operational or one year, whichever is longer.

Scope. Considering the benefits of streamlining, regulatory certainty, and parity among different types of earth station licensees, we expand on the build-out term proposal in the proposed rule for earth stations licensed under 47 CFR 25.136 to include all blanket-licensed earth station operations eligible to be included in a unified license (i.e., other than FSS below 10 GHz), and further to allow the same treatment for blanket earth station licenses and individual earth station licenses, which are not part of a unified license, with the same exception for FSS below 10 GHz where new earth station deployments have been significantly limited pursuant to the Commission's decisions to significantly increase development of terrestrial services in some of these bands. Although we excluded from the unified licensing option earth station operations that must be individually coordinated, these operations will benefit the most from extended build-out periods to ensure that the necessary siting locations remain available once the satellite is ultimately launched.

Bands Shared with UMFUS. Applying an extended build-out period to earth station licenses subject to 47 CFR 25.136 will provide greater regulatory certainty to satellite operators planning newer-generation GSO or NGSO satellites with narrow spot-beams and therefore more limited earth station siting options. We do not believe that doing so will fundamentally alter the sharing regime with UMFUS or the rights of UMFUS operators. However, we believe that the earth station coordination reached with UMFUS licensees should be brought up to date once the earth station is actually constructed and operating. This will ensure that the UMFUS licensees have accurate information on the earth station operations notwithstanding the substantially longer earth station build-out period we are allowing. Providing UMFUS licensees with the certainty of an updated coordination will counterbalance the potential chilling of some UMFUS developments that might result from the extended earth station build-out periods. As such, the re-coordination requirement serves as an important check on potential warehousing. Requiring earth station operators to simply notify changes to UMFUS licensees would instead place the burden of those changes, and the risk of non-deployment of the earth station, on UMFUS operators. We decline to shift this risk onto UMFUS operators, given that the one-year build-out requirement provided underlying support for the earth station siting rules adopted in 47 CFR 25.136. We believe that a re-coordination requirement for earth station licensees deploying in UMFUS bands is a reasonable tradeoff for the added flexibility longer build-out period provide these licensees. Nonetheless, we note that earth station applicants in shared UMFUS bands will have several options. They may: (1) Construct and bring the earth station into operation within one year of licensing; (2) re-coordinate; or (3) deploy the earth station on an unprotected basis.

We find no basis for treating NGSO FSS earth stations differently than GSO FSS or other earth stations included in the scope of our proposal. Moreover, the record is not fully developed for the Commission to decide whether it would serve the public interest to establish a limit on the eligible number of NGSO FSS earth stations or rely solely on the waiver process. We will consider the need for a future rulemaking on the issue of extended build-out periods after monitoring their implementation.

Accordingly, we will require earth station operators that take advantage of the extended build-out period associated with deployment of a communicating satellite to re-coordinate with the UMFUS licensees within one year before actually operating the earth station. Such re-coordination should account for changes to the earth station equipment or configuration in the intervening years, as well as to geographic and demographic changes in the surrounding area. In order to ensure that the required re-coordination has taken place, notice of the completed re-coordination must be filed in IBFS prior to commencement of earth station operations. For earth stations that are constructed and brought into operation within one year of licensing, as currently required, such re-coordination will not be necessary.

Build-out Period. We also acknowledge that it may be difficult to complete construction of all licensed earth stations and operate them on the first day that the satellite is certified as brought into operation, as proposed in the proposed rule. In addition, the next generation of high-throughput satellites may deploy large numbers of gateway earth stations that are not all needed to operate upon the initial deployment of the satellite, given the likely period of ramp-up in traffic over the satellite system. To address the practical realities of potentially testing all earth stations in a satellite system in a single day, and to allow some flexibility during the initial period of increase in satellite traffic, we will extend the earth station construction requirement to be six months after the associated space station is certified as brought into operation.

Warehousing Concerns and a Performance Bond. We note that individually licensed earth stations will operate in frequency bands already included in a space station license. The space station license requires posting of an escalating $3 million bond for GSO networks or an escalating $5 million bond for NGSO systems. The bond is payable if the satellite system is not deployed within the required milestones included in the license. This existing bond requirement acts as a deterrent to satellite operators without a firm intent to deploy their licensed systems in the particular frequency bands. Further, each individual earth station license application carries a separate application fee. With these existing disincentives to warehousing, the scant record on a bond alternative, and the potential burdens associated with administering and enforcing a bond for many individually licensed earth stations that could communicate with a number of space stations, we decline to adopt an earth station bond at this time.

Nonetheless, we intend to closely follow this issue in the future and to pursue measures, including possible earth stations bonds, based on further experience. In particular, we do not expect many cases in which a single operator files, under 47 CFR 25.136, for more than one earth station license within a given county or PEA, or for an earth station that covers the maximum permitted aggregate population within the relevant UMFUS licensing area. Such filings may encourage further rulemaking on the issue of anti-warehousing measures. While we defer the question of addressing warehousing incentives until we develop more experience with the implementation of extended earth-station build-out periods, we will consider in addressing the need for any such measures whether to apply them to previously granted earth station licenses with extended build-out periods.

D. Annual Reporting Requirements for Satellite Operators

In the proposed rule, the Commission proposed to repeal the majority of the satellite annual reporting requirements in 47 CFR 25.170 because the reports are not regularly used by Commission staff. The Commission proposed to retain only the requirement for an annual confirmation of the accuracy of the contact information on file and to move this requirement to 47 CFR 25.171. We adopt the proposal in the proposed rule. The majority of the annual reporting requirements in 47 CFR 25.170 have proven unnecessary for the typical work of Commission staff particular to satellite licenses. In contrast, failures in internal communication or other issues can cause updates in point of contact information not to be reported to the Commission in compliance with 47 CFR 25.171. In these cases, including the up-to-date contact information has proven important to ensure such information does not remain inaccurate indefinitely. We also update the cross-reference in 47 CFR 25.172(a)(1) to reflect this change.

E. Out-of-Band Emissions

In the proposed rule, the Commission observed that the default out-of-band emissions rule in 47 CFR 25.202(f) dates from the 1970s, and that its wording has created confusion among some operators. The Commission proposed to replace this rule with a requirement to comply with an international out-of-band emissions standard, ITU-R SM.1541-6, “Unwanted emissions in the out-of-band domain,” August 2015. However, given concerns expressed on the record regarding this proposal and the importance of out-of-band-emission limits for the protection of adjacent services and the implementation of Commission band segmentation decisions, we decline to modify 47 CFR 25.202(f). We recognize that replacing 47 CFR 25.202(f) with the limits contained in the ITU Recommendation would relax some out-of-band emission requirements immediately at the band edge. The current record has not considered the specific impact of this relaxation on adjacent terrestrial services. We are therefore not in a position to conclude terrestrial services would be unaffected, or that the relaxation would otherwise serve the public interest. However, we may seek in the future to develop a full record on this issue and reconsider adoption of an internationally standardized, default out-of-band emissions limit for satellite services.

F. Dismissal of Applications

The proposed rule invited comment on whether to modify the acceptability standard for applications under 47 CFR part 25 to explicitly state that an applicant may correct any errors or omissions within 60 days of a Commission request, and that applications will be accepted for filing automatically within 30 days of filing, unless the Commission determines otherwise. After review of the split record on this issue and consideration of long-standing staff practices, we are not convinced that an explicit, one-sized-fits-all acceptability approach is desirable across the variety of satellite and earth station applications presented under 47 CFR part 25. Rather, we believe that the current framework has proven flexible to enable Commission staff to address errors without undue disruptions to applicants or other operators. We therefore decline to modify the acceptability for filing rules.

G. Notification of Minor Earth Station Modifications

In the proposed rule, the Commission proposed to reduce filing burdens on some earth station licensees by repealing the requirement to notify the Commission of the types of minor changes to authorized earth stations listed in 47 CFR 25.118(a)(4)—i.e., those that the Commission does not expect to worsen the interference environment for other operators.

After review of the record, we adopt the proposed streamlining measure by moving the enumerated types of modifications from 47 CFR 25.118(a)(4) to 47 CFR 25.118(b), which lists earth station modifications that do not require notification and include two additional modifications that require Commission notification. Namely, decreases in antenna height and any change that increases or decreases the earth station's power flux-density (PFD) contour. The PFD contour is an essential part of the initial application under 47 CFR 25.136 in bands shared with UMFUS and any modification such as to antenna height, power, orientation, etc. that changes the PFD contour will trigger the notification requirement. We also clarify that the addition of new transceiver and antenna combinations to an existing blanket earth station license does not require prior Commission notification when they meet the requirements currently listed in 47 CFR 25.118(a)(4).

We do not believe that a change in earth station antenna pattern under 47 CFR 25.118(a)(4)(i) will negatively impact terrestrial operators because it must not, in accordance with the rule, exceed the previously filed EIRP or EIRP density envelope. As such, we do not believe these notices are necessary for operators in other services because the “worst case” interference scenario will not be affected. We also do not believe that an earth station operating in a band shared with UMFUS at a power level below its maximum authorized power level should be required to notify the Commission of its lower operating power level. No such requirement currently exists—earth stations may be operated at different power levels based on varying requirements and conditions, provided they do not exceed their authorized power envelopes—and we find no basis to adopt such a new reporting requirement.

However, we do believe that the Commission should require earth station operators to provide notice of a decrease in antenna height pursuant to this provision. Although in many cases a decrease in earth station antenna height would improve, not worsen, the interference environment for terrestrial operators as ground clutter would play a larger role in suppressing emissions in unwanted directions, that is not always the case. For example, a lowered antenna may be more likely to radiate higher side lobes into an UMFUS station or may bring the antenna closer to some local metallic object, creating induced spurious effects on the resultant radiation pattern that create higher interference levels in certain directions. And a decrease in antenna height may result in decreased PFD contours which provide an UMFUS operator the opportunity to serve an area that was previously excluded, but now no longer is. Therefore, we will require notification of decreases in antenna height.

H. Additional Proposals in Comments

In addition to the proposals and questions in the proposed rule, some additional proposals were made in the comments of this proceeding to streamline other aspects of the Commission's satellite licensing rules. SES additionally reiterated one issue contained in its Petition for Reconsideration of a 2015 satellite streamlining order, which will be addressed in that rulemaking. We have reviewed these proposals and conclude that, while they are outside the scope of the proposed rule, we may revisit some of these proposals in the future.

Final Regulatory Flexibility Analysis

As required by the Regulatory Flexibility Act of 1980, as amended (RFA), an Initial Regulatory Flexibility Analysis (IRFA) was incorporated in Further Streamlining Part 25 Rules Governing Satellite Services, Notice of Proposed Rulemaking. The Commission sought written public comment on the proposals in the proposed rule, including comment on the IRFA. No comments were received on the IRFA. This present Final Regulatory Flexibility Analysis (FRFA) conforms to the RFA.

A. Need for, and Objectives of, the Order

The Order creates a new, streamlined license for both space stations and earth stations and adopts other streamlining measures for the authorization of earth stations. It also removes the annual reporting requirements for satellite operators and makes other corrections in 47 CFR part 25.

B. Summary of Significant Issues Raised by Public Comments in Response to the IRFA

There were no comments filed that specifically addressed the rules and policies proposed in the IRFA.

C. Response to Comments by the Chief Counsel for Advocacy of the Small Business Administration

Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

D. Description and Estimate of the Number of Small Entities to Which Rules Will Apply

The RFA directs agencies to provide a description of, and, where feasible, an estimate of, the number of small entities that may be affected by the rules adopted herein. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA). Below, we describe and estimate the number of small entities that may be affected by adoption of the final rules.

Satellite Telecommunications

This category comprises firms “primarily engaged in providing telecommunications services to other establishments in the telecommunications and broadcasting industries by forwarding and receiving communications signals via a system of satellites or reselling satellite telecommunications.” Satellite telecommunications service providers include satellite and earth station operators. The category has a small business size standard of $35 million or less in average annual receipts, under SBA rules. For this category, U.S. Census Bureau data for 2012 show that there were a total of 333 firms that operated for the entire year. Of this total, 299 firms had annual receipts of less than $25 million. Consequently, we estimate that the majority of satellite telecommunications providers are small entities.

E. Description of Projected Reporting, Recordkeeping and Other Compliance Requirements for Small Entities

The Order adopts several rule changes that would affect compliance requirements for space station and earth station operators. For example, the Order creates a new, optional, streamlined licensing procedure for both space stations and earth stations in a satellite system. It also eliminates some reporting requirements for space station and earth station licensees. In total, the actions in this Order are designed to achieve the Commission's mandate to regulate in the public interest while imposing the lowest necessary burden on all affected parties, including small entities.

F. Steps Taken To Minimize the Significant Economic Impact on Small Entities and Significant Alternatives Considered

The RFA requires an agency to describe any significant alternatives that it has considered in developing its approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

In this Order, the Commission creates a new, optional, streamlined licensing procedure for both space stations and earth stations in a satellite system specifically designed to eliminate redundancies and reduce regulatory burdens. The Commission also adopts a certification option for earth station applicants to eliminate duplicative or unnecessary information filed with the Commission. In addition, the Commission repeals certain other requirements with the aim of streamlining its requirements. Overall, the actions in this document will reduce burdens on the affected licensees, including small entities.

Report to Congress: The Commission will send a copy of the Report and Order, including this FRFA, in a report to be sent to Congress pursuant to the Congressional Review Act. In addition, the Commission will send a copy of the Report and Order, including this FRFA, to the Chief Counsel for Advocacy of the SBA. A copy of the Report and Order and FRFA (or summaries thereof) will also be published in the Federal Register.

Paperwork Reduction Act

This document contains new or modified information collection requirements. The Commission, as part of its continuing effort to reduce paperwork burdens, invites the general public to comment on the information collection requirements contained in this Report and Order as required by the Paperwork Reduction Act of 1995, Public Law 104-13. In addition, the Commission notes that pursuant to the Small Business Paperwork Relief Act of 2002, Public Law 107-198, see 44 U.S.C. 3506(c)(4), we previously sought specific comment on how the Commission might further reduce the information collection burden for small business concerns with fewer than 25 employees.

In this present document, we have assessed the effects of requiring some earth station licensees to re-coordinate with Upper Microwave Flexible Use Service licensees under 47 CFR 25.136, and find that it may increase coordination costs for some businesses with fewer than 25 employees.

Congressional Review Act

The Commission has determined, and the Administrator of the Office of Information and Regulatory Affairs, Office of Management and Budget, concurs that this rule is “non-major” under the Congressional Review Act, 5 U.S.C. 804(2). The Commission will send a copy of this Second Report and Order to Congress and the Government Accountability Office pursuant to 5 U.S.C. 801(a)(1)(A).

Ordering Clauses

It is ordered, pursuant to sections 4(i), 7(a), 10, 303, 308(b), and 316 of the Communications Act of 1934, as amended, 47 U.S.C. 154(i), 157(a), 160, 303, 308(b), 316, that this Report and Order is adopted, the policies, rules, and requirements discussed herein are adopted, and part 25 of the Commission's rules is amended as set forth below.

It is further ordered that the rule amendments in this Report and Order will become effective 30 days from the date of publication in the Federal Register, except for those amendments which contain new or modified information collection requirements that require approval by the Office of Management and Budget under the Paperwork Reduction Act which will become effective after the Commission publishes a document in the Federal Register announcing such approval and the relevant effective date.

It is further ordered that the Commission's Consumer and Governmental Affairs Bureau, Reference Information Center, shall send a copy of this Report and Order, including the Final Regulatory Flexibility Analyses, to the Chief Counsel for Advocacy of the Small Business Administration.

It is further ordered that the Commission shall send a copy of this Report and Order in a report to be sent to Congress and the Government Accountability Office pursuant to the Congressional Review Act, see 5 U.S.C. 801(a)(1)(A).

List of Subjects in 47 CFR Part 25

Administrative practice and procedure, Satellites.

Federal Communications Commission.
Marlene Dortch,
Secretary.

Final Rules

For the reasons discussed in the preamble, the Federal Communications Commission amends 47 CFR part 25 as follows:

PART 25—SATELLITE COMMUNICATIONS

1. The authority citation for part 25 continues to read as follows:

Authority: 47 U.S.C. 154, 301, 302, 303, 307, 309, 310, 319, 332, 605, and 721, unless otherwise noted.

2. Amend § 25.115 by revising paragraph (a)(1) to read as follows:

§ 25.115 Applications for earth station authorizations.

(a)(1)(i) Transmitting earth stations. Commission authorization must be obtained for authority to operate a transmitting earth station. Applications must be filed electronically on FCC Form 312, Main Form and Schedule B, and include the information specified in this section, except as set forth in paragraphs (a)(1)(ii) and (a)(2) of this section.

(ii) Certification of compliance with space station authorization. An earth station applicant certifying that it will comply with the applicable terms and conditions of the authorization of any space station with which it communicates need not provide technical demonstrations or other information that is duplicative or unnecessary due to the certification. This provision does not apply to FSS operation in bands below 10 GHz or in bands subject to § 25.136.

* * * * *

3. Amend § 25.118 by revising paragraphs (a)(4) and (b) to read as follows:

§ 25.118 Modifications not requiring prior authorization.

(a) * * *

(4) An earth station licensee may additionally:

(i) Decrease antenna height; or

(ii) Increase or decrease the earth station's PFD contour, provided the modification does not involve a change listed in paragraph (b)(2) of this section.

(b) Earth station modifications, notification not required. Notwithstanding paragraph (a) of this section:

(1) Equipment in an authorized earth station may be replaced without prior authorization and without notifying the Commission if the new equipment is electrically identical to the existing equipment.

(2) Licensees may make other changes to their authorized earth stations, including the addition of new transceiver/antenna combinations, without notifying the Commission, provided the modification does not involve:

(i) An increase in EIRP or EIRP density (either main lobe or off-axis);

(ii) Additional operating frequencies;

(iii) A change in polarization;

(iv) An increase in antenna height;

(v) Antenna repointing beyond any coordinated range; or

(vi) A change from the originally authorized coordinates of more than 1 second of latitude or longitude for stations operating in frequency bands shared with terrestrial systems or more than 10 seconds of latitude or longitude for stations operating in frequency bands not shared with terrestrial systems.

* * * * *

4. Add § 25.124 to read as follows:

§ 25.124 Unified space station and earth station authorization.

(a) A single authorization may be issued for the operations of a GSO space station or NGSO space station(s) and the blanket-licensed earth stations that will operate within that satellite system, excluding GSO FSS and NGSO FSS satellite systems operating in bands below 10 GHz and bands subject to § 25.136. The available frequency bands are:

(1) Non-Voice, Non-Geostationary MSS: 137-138 MHz, 148-150.05 MHz, 399.9-400.05 MHz, and 400.15-401 MHz;

(2) 1.5/1.6 GHz MSS: 1525-1559 MHz and 1626.5-1660.5 MHz;

(3) 1.6/2.4 GHz MSS: 1610-1626.5 MHz and 2483.5-2500 MHz;

(4) 2 GHz MSS: 2000-2020 MHz and 2180-2200 MHz;

(5) GSO FSS: 10.7-12.2 GHz, 14-14.5 GHz, 18.3-18.8 GHz, 19.7-20.2 GHz, 28.35-28.6 GHz, 29.25-30 GHz, 40-42 GHz, and 48.2-50.2 GHz;

(6) NGSO FSS: 10.7-12.7 GHz, 14-14.5 GHz, 17.8-18.6 GHz, 18.8-19.4 GHz, 19.6-20.2 GHz, 28.35-29.1 GHz, 29.5-30 GHz, 40-42 GHz, and 48.2-50.2 GHz; and

(7) GSO and NGSO MSS: 19.7-20.2 GHz and 29.5-30 GHz.

(b) An application for a satellite system license described in paragraph (a) must contain:

(1) The information required by § 25.114 or, for a non-U.S.-licensed space station, § 25.137;

(2) A certification that earth station operations under the satellite system license will comply with part 1, subpart I and part 17 of this chapter; and

(3) Any additional information required under this part, including under § 25.115, for operation of the blanket-licensed earth stations that is not duplicative or unnecessary due to the information provided for the space station operation.

5. Amend § 25.133 by revising paragraph (a) to read as follows:

§ 25.133 Period of construction; certification of commencement of operation.

(a) An earth station, or network of blanket-licensed earth stations, must be brought into operation within the longest of the time periods below, unless the Commission determines otherwise:

(1) For an earth station authorized to communicate with a GSO FSS space station in the 3600-4200 MHz band (space-to-Earth) operating outside of CONUS, or in the 5850-6725 MHz band (Earth-to-space), within one year from the date of the license grant;

(2) For any other earth station or network of earth stations, within one year from the date of the license grant or six months after the bringing into operation of a GSO space station, or NGSO system under § 25.164(b)(1), with which the earth station or earth station network was authorized to communicate when it was licensed, as notified under § 25.173(b).

* * * * *

6. Delayed indefinitely, amend § 25.136 by adding paragraph (h) to read as follows:

§ 25.136 Earth Stations in the 24.75-25.25 GHz, 27.5-28.35 GHz, 37.5-40 GHz, 47.2-48.2, GHz and 50.4-51.4 GHz bands.

* * * * *

(h) Re-coordination. An earth station licensed under this section that is brought into operation later than one year after the date of the license grant must be re-coordinated with UMFUS stations using the applicable processes in § 101.103(d) of this chapter. The earth station licensee must complete re-coordination within one year before its commencement of operation. The re-coordination should account for any demographic or geographic changes as well as changes to the earth station equipment or configuration. A re-coordination notice must be filed in IBFS before commencement of earth station operations.

§ 25.170 [Removed]

7. Remove § 25.170.

8. Revise § 25.171 to read as follows:

§ 25.171 Space station point of contact reporting requirements.

(a) Annual report. On June 30 of each year, a space station licensee or market access recipient must provide a current listing of the names, titles, addresses, email addresses, and telephone numbers of the points of contact for resolution of interference problems and for emergency response. Contact personnel should include those responsible for resolution of short-term, immediate interference problems at the system control center, and those responsible for long-term engineering and technical design issues.

(b) Updated information. If a space station licensee or market access recipient point of contact information changes, the space station licensee or market access recipient must file the updated information within 10 days of the change.

(c) Electronic filing. Filings under paragraphs (a) or (b) of this section must be made electronically in the Commission's International Bureau Filing System (IBFS) in the “Other Filings” tab of the station's current authorization file.

9. Amend § 25.172 by revising paragraph (a)(1) to read as follows:

§ 25.172 Requirements for reporting space station control arrangements.

(a) * * *

(1) The information required by § 25.171(a).

* * * * *

Editorial Note: The Office of the Federal Register received this document on December 23, 2020.

[FR Doc. 2020-28907 Filed 2-26-21; 8:45 am]

BILLING CODE 6712-01-P